DEPARTMENT OF HEALTH AND HUMAN SERVICES

Centers for Disease Control and Prevention

[30Day-06-05AP]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Spanish-language Folic Acid Communication Research and Creative Production—New—National Center on Birth Defects and Developmental Disabilities (NCBDDD), Centers for Disease Control and Prevention (CDC).

Background and Brief Description

Pregnancies and births affected by spina bifida or anencephaly have profound physical, emotional, and financial effects on families and communities. Recent data from the National Birth Defects Prevention Network surveillance system show that folic acid food fortification has resulted in an approximate overall 25% decline in Neural Tube Defect (NTD) affected pregnancies. Since food fortification in 1998, the number of babies born in the United States with these serious birth defects has declined. Before food fortification, CDC estimated that there were about 4,000 NTD-affected pregnancies each year. Since 1999, CDC has observed a decline so that the CDC National Center of Birth Defects and Developmental Disabilities now estimates that, annually, there are only about 3,000 NTD-affected pregnancies.

Despite these exciting developments, Hispanic women in the United States remain the most vulnerable for having an NTD-affected pregnancy. The specific reason for this increased risk remains a mystery. What we do know is that they have a higher risk than Caucasian and African American women in the United States. Surveys conducted by CDC in 1999 and 2000 also showed that Hispanic women had the lowest reported folic acid knowledge and consumption. In 1995 and 1996 during the pre-fortification period, the prevalence of spina bifida and anencephaly among Hispanic women was about 10 per 10,000 births or pregnancies compared to about 8 per 10,000 among Whites and almost 6 per 10,000 among Blacks. Because Hispanic women still have the highest rate among the 3 racial/ethnic groups, CDC continues to make reaching them its top priority.

CDC is interested in continuing to reach Spanish-speaking Hispanic women in the United States. Preliminary results from the Spanish Folic Acid Campaign Evaluation Survey (SFACES) have shown that a strategy that combines local outreach efforts and paid/earned media efforts is effective. However, CDC does not anticipate budgetary increases that could make a national-level Spanish language campaign possible. Also, CDC is concerned that the SFACES campaign materials, which were developed in 1999, may be becoming “dated.” While CDC has no hard evidence that they are no longer effective, CDC does want to examine their effectiveness in a robust manner before decisions are made about whether to keep using them in outreach efforts in selected communities throughout the U.S. CDC is also interested in developing a deeper understanding of sub-groups of women within the Spanish-speaking Hispanic population and developing effective communication strategies for reaching them.

This project includes a systematic communication research and product development process involving, and ultimately serving, Spanish-speaking Hispanic women. These activities include:

a. Developing a multivariate audience-segmentation scheme using existing data from Spanish-speaking Hispanic women;

b. Assessing the effectiveness of current campaign materials with the identified audience segments;

c. Conducting qualitative research with audience segments;

d. Developing audience profiles for each audience segment;

e. Developing draft communication plans based on audience profiles that outlines potential outreach strategies;

f. Presenting the possibilities to key internal and external stakeholders to solicit input;

g. Developing and testing concepts, messages, and materials along with implementation plans for their use; and,

h. Producing master quality copies of each material in formats that CDC and partners can use for mass production and dissemination.

Since the 60 day Federal Register notice on this project was published, the first step—developing a multivariate audience-segmentation scheme using existing data from Spanish-speaking Hispanic women—has been completed. Three distinct audience groups of Spanish-speaking Hispanic women of childbearing age have been identified as needing extra outreach efforts, so they are the focus of this request. The three groups are:

(1) Unacculturated mothers (Spanish-speaking Hispanic women between the ages of 26-35 years old, who have less than a high school education and report having a child),

(2) Unacculturated young adults (Spanish-speaking Hispanic women between the ages of 18-25 years old who have less than a high school education and report NOT having a child), and

(3) Acculturated young adults (Acculturated young adults are Spanish-speaking Hispanic women between the ages of 18-24 who have a high school education and report not having any college education and not having any children).

The annual burden table has been updated to reflect research activities in all three of these important audience segments. There are no costs to the respondents other than their time. The total estimated annualized burden hours are 935.

Estimated Annualized Burden Table
Respondents and data collection types | No. of respondents | No. of responses per respondent | Average burden per response (in hours)
Telephone contact | 2200 | 1 | 5/60
Hispanic women, 18-35 (evaluate existing materials interviews) | 90 | 1 | 30/60
Hispanic women, 18-35 (18 exploratory focus groups) | 216 | 1 | 2
Hispanic women, 18-35 (9 concept testing focus groups) | 108 | 1 | 2
Hispanic women, 18-35 (new materials pre-testing interviews) | 90 | 1 | 30/60
Testing of new materials with distributors (brief interviews) | 50 | 1 | 15/60

Dated: November 18, 2005.
Betsey S. Dunaway,
Acting Reports Clearance Officer, Centers for Disease Control and Prevention.

[FR Doc. E5-6669 Filed 11-28-05; 8:45 am]

BILLING CODE 4163-18-P